DEPARTMENT OF AGRICULTURE

Forest Service

Central Montana Resource Advisory Committee; Correction

AGENCY: Forest Service, USDA.

ACTION: Notice of meeting; correction.

SUMMARY: The Forest Service published a document in the Federal Register of April 13, 2011, concerning a notice of meeting for the Central Montana Resource Advisory Committee. The document contained an incorrect date.

FOR FURTHER INFORMATION CONTACT: Ron Wiseman, 406-566-2292.

Correction

In the Federal Register of April 13, 2011, in FR Doc. 2011-9006, on page 20624, in the second column, correcrt the DATES caption to read: The meeting will be held April 28, 2011 and will begin at 7 p.m.

Dated: April 15, 2011.
Ron B. Wiseman,
Designated Federal Official.

[FR Doc. 2011-9654 Filed 4-20-11; 8:45 am]

BILLING CODE 3410-11-P